DEPARTMENT OF LABOR

Employment and Training Administration

Comment Request for Information Collection for the Evaluation of the Young Parents Demonstration Program, Reinstatement With Change

AGENCY: Employment and Training Administration (ETA), Labor.

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 [44 U.S.C. 3506 (c) (A)] (PRA). The PRA helps ensure that respondents can provide requested data in the desired format with minimal reporting burden (time and financial resources), collection instruments are clearly understood and the impact of collection requirements on respondents can be properly assessed.

Currently, ETA is soliciting comments concerning the information collection request (ICR) to collect data for the Evaluation of the Young Parents Demonstration Program (YPDP).¹

¹ U.S. Department of Labor, Employment and Training Administration. 2008. “Young Parents Demonstration Program (YPDP) SGA/DFA PY 08-08,” Federal Register, Vol. 73, No. 193, October 3, 2008 (available over the Internet at: http://edocket.access.gpo.gov/2008/pdf/E8-23319.pdf).

Interested parties are encouraged to provide comments to the contact shown in the ADDRESSES section. Comments must be written to receive consideration, and they will be summarized and included in the request for Office of Management and Budget (OMB) approval of the final ICR. In order to help ensure appropriate consideration, comments should mention OMB 1205-0494.

DATES: Submit written comments to the office listed in the addresses section below on or before September 8, 2015.

ADDRESSES: A copy of this ICR with applicable supporting documentation; including a description of the likely respondents, proposed frequency of response, and estimated total burden may be obtained free by contacting Michelle Ennis, Office of Policy Development and Research, Employment and Training Administration, U.S. Department of Labor, Room N-5641, 200 Constitution Avenue NW., Washington, DC 20210, Phone: 202-693-3636 (this is not a toll-free number). Individuals with hearing or speech impairments may access the telephone number above via TTY by calling the toll-free Federal Information Relay Service at 1-877-889-5627 (TTY/TDD). Fax: 202-693-2766. Email: ennis.michelle@dol.gov.

FOR FURTHER INFORMATION CONTACT: Michelle Ennis, 202-693-3636, or ennis.michelle@dol.gov.

SUPPLEMENTARY INFORMATION:

I. Background

The proposed reinstatement with change of information collection is for an evaluation of the YPDP. The YPDP is sponsored by ETA to test innovative strategies that can improve the skills and education of young parents and, ultimately their employment and earnings.

The YPDP grantees are required to develop a “bump-up” intervention providing an additional level of services above and beyond the existing services currently provided that are specifically intended to increase an individual's education, job training and employment. A key factor in the bump-up design is having a single, persistent intervention for the treatment group that is substantially different from what the control group receives. Each of the grantees is implementing one of the following two bump-up interventions:

• Mentoring Models—Intensive professional staff mentoring specifically for education, employment, and training; and specifically for pregnant and parenting teens and young parents; or

• Employment/Education/Training Models—Guided employment, education, training and related supports specifically for pregnant and parenting teens and young parents.

Individuals enrolling in YPDP have a 50/50 chance of receiving this additional level of services. Those individuals not receiving the bump-up services receive the existing services offered by the grantee.

To evaluate the YPDP bump-up interventions, we will compare the education, employment, and other outcomes for the two groups over various points in time. The evaluation will estimate the success in providing educational and occupational skills training that fosters family economic self-sufficiency to young parents (both mothers and fathers) and expectant parents ages 16-24.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Agency: DOL-ETA.

Type of Review: Reinstatement with change.

Title of Collection: Evaluation of the Young Parents Demonstration Program.

OMB Control Number: 1205-0494.

Affected Public: Individuals (Young Parents) and community-based organizations.

Estimated Number of Respondents: 2,971.

Frequency: Six (6) Participant Tracking System entries, two (2) site visit interviews, and one (1) survey response.

Total Estimated Annual Responses: 11,168.

Estimated Average Time per Response: 11.4 minutes or 0.19 hours.

Estimated Total Annual Burden Hours: 2,119 hours.

Total Estimated Annual Other Cost Burden: $44,276.

Type of respondent | Data collection activity | Number of respondents | Number of responses per respondent (frequency) | Total number of responses | Response time per response (in hours) | Total annual burden (in hours) | Average hourly wage (Jan 2015) * | Total annualized cost
Study Participant | Participant Tracking System—Data Collection | 1,633 | 6 | 9,798 | 0.167 | 1,636 | $20.81 | $34,051
Program Staff | Site Visit Interviews | 32 | 2 | 64 | 0.750 | 48 | $24.48 | $1,175
Study Participant | 18-Month Follow-Up Survey | 1,306 | 1 | 1,306 | 0.333 | 435 | $20.81 | $9,050
Total |  | 2,971 |  | 11,168 |  | 2,119 |  | $44,276
* For the wage rate used for the “study participant,” see U.S. Department of Labor, Bureau of Labor Statistics, Table B-8. Average hourly and weekly earnings of production and nonsupervisory employees on private nonfarm payrolls by industry sector, seasonally adjusted (accessed from the following website as of January 2015: http://www.bls.gov/news.release/empsit.t24.htm). For the wage rate for “program staff,” see U.S. Department of Labor, Bureau of Labor Statistics, Table B-3. Average hourly and weekly earnings of all employees on private nonfarm payrolls by industry sector, seasonally adjusted (accessed from the following website as of January 2015: http://www.bls.gov/news.release/empsit.t19.htm).

We will summarize and/or include the comments received in response to this request for comments in our request for OMB approval of the ICR. They will also become a matter of public record.

Portia Wu,
Assistant Secretary for Employment and Training, Labor.

[FR Doc. 2015-16717 Filed 7-7-15; 8:45 am]

BILLING CODE 4510-FT-P